DEPARTMENT OF DEFENSE

Office of the Secretary

[Transmittal No. 25-62]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-62, Policy Justification, and Sensitivity of Technology.

Dated: January 22, 2026.
Stephanie J. Bost,
Alternate OSD Federal Register Liaison Officer, Department of Defense.

BILLING CODE 6001-FR-P

BILLING CODE 6001-FR-C

Transmittal No. 25-62

Notice of Proposed Issuance of Letter of Offer Pursuant to Section 36(b)(1) of the Arms Export Control Act, as amended

(i) Prospective Purchaser: Government of Poland

(ii) Total Estimated Value:

Major Defense Equipment * | $720 million
Other | $ 60 million
TOTAL | $780 million

Funding Source: National Funds

(iii) Description and Quantity or Quantities of Articles or Services under Consideration for Purchase:

Major Defense Equipment (MDE):

Two thousand five hundred six (2,506) FGM-148F Javelin missiles

Two hundred fifty-three (253) Javelin Lightweight Command Launch Units

Non-Major Defense Equipment:

The following non-MDE items will be included: missile simulation rounds; battery coolant units; tool kits; spares support; training; United States (U.S.) Government and contractor technical assistance; transportation; and other related elements of logistics and program support.

(iv) Military Department: Army (PL-B-UFJ)

(v) Prior Related Cases, if any: PL-B-UDN

(vi) Sales Commission, Fee, etc., Paid, Offered, or Agreed to be Paid: None known at this time

(vii) Sensitivity of Technology Contained in the Defense Article or Defense Services Proposed to be Sold: See Attached Annex

(viii) Date Report Delivered to Congress: September 18, 2025

* as defined in Section 47(6) of the Arms Export Control Act.

POLICY JUSTIFICATION

Poland—Javelin Missile Systems

The Government of Poland has requested to buy two thousand five hundred six (2,506) FGM-148F Javelin missiles and two hundred fifty-three (253) Javelin Lightweight Command Launch Units. The following non-MDE items will be included: missile simulation rounds; battery coolant units; tool kits; spares support; training; U.S. Government and contractor technical assistance; transportation; and other related elements of logistics and program support. The estimated total cost is $780 million.

This proposed sale will support the foreign policy and national security of the U.S. by improving the security of a NATO Ally that is a force for political and economic stability in Europe.

The proposed sale will improve Poland's capability to meet current and future threats by upgrading its existing legacy Command Launch Units and increasing its defense inventory, thereby reinforcing its capability to protect Polish sovereign territory and improving its ability to meet NATO requirements. Poland will have no difficulty absorbing these articles and services into its armed forces.

The proposed sale of this equipment and support will not alter the basic military balance in the region.

The principal contractors will be RTX Corporation, located in Arlington, VA; and Lockheed Martin, located in Tucson, AZ. At this time, the U.S. Government is not aware of any offset agreement proposed in connection with this potential sale. Any offset agreement will be defined in negotiations between the purchaser and the contractor.

Implementation of this proposed sale will not require the assignment of any additional U.S. Government or contractor representatives to Poland.

There will be no adverse impact on U.S. defense readiness as a result of this proposed sale.

Transmittal No. 25-62

Notice of Proposed Issuance of Letter of Offer Pursuant to Section 36(b)(1) of the Arms Export Control Act

Annex

Item No. vii

(vii) Sensitivity of Technology:

1. The Javelin is a medium-range, man-portable, shoulder-launched, fire-and-forget anti-tank system for infantry, scouts, and combat engineers. It can be mounted on a variety of platforms including vehicles, aircraft, and watercraft. The system weighs 49.5 pounds and has a maximum range in excess of 2,500 meters. The system is highly lethal against tanks and other systems with conventional and reactive armors. The system possesses a secondary capability against bunkers.

2. Javelin's key technical feature is the use of fire-and-forget technology, which allows the gunner to fire and immediately relocate or take cover. Additional features are the top attack and direct fire modes, an advanced tandem warhead and imaging infrared seeker, target lock-on before launch, and soft launch from enclosures or covered fighting positions. The Javelin missile also has a minimum smoke motor thus decreasing the likelihood of detection on the battlefield.

3. The Javelin weapon system is comprised of two major tactical components, which are a reusable Lightweight Command Launch Unit (LwCLU) and a round contained in a disposable launch tube assembly. The LwCLU incorporates an integrated day-night sight that provides a target engagement capability in adverse weather and countermeasure environments. The LwCLU can also be used in a stand-alone mode for battlefield surveillance and target detection. The LwCLU's thermal sight is a second generation forward looking infrared sensor. To facilitate initial loading and subsequent updating of software, all on-board missile software is uploaded via the LwCLU after mating and prior to launch.

4. The missile is autonomously guided to the target using an imaging infrared seeker and adaptive correlation tracking algorithms. This allows the gunner to take cover or reload and engage another target after firing a missile. The missile has an advanced tandem warhead and can be used in either the top attack or direct fire modes. An onboard flight computer guides the missile to the selected target.

5. The highest level of classification of defense articles, components, and services included in this potential sale is SECRET.

6. If a technologically advanced adversary were to obtain knowledge of the specific hardware and software elements, the information could be used to develop countermeasures that might reduce system effectiveness or be used in the development of a system with similar or advanced capabilities.

7. A determination has been made that the Government of Poland can provide substantially the same degree of protection for the sensitive technology being released as the U.S. government. This proposed sale is necessary in furtherance of the U.S. foreign policy and national security objectives outlined in the Policy Justification.

8. All defense articles and services listed on this transmittal have been authorized for release and export to the Government of Poland.

[FR Doc. 2026-01507 Filed 1-26-26; 8:45 am]

BILLING CODE 6001-FR-P